DEPARTMENT OF ENERGY

Federal Energy Regulatory Commission

Combined Notice of Filings #2

Take notice that the commission received the following accounting Request filings:

Docket Numbers: AC25-51-000.

Applicants: Southern California Edison Company.

Description: Southern California Edison Company submits request for approval to exclude certain short-term debt from the calculation of the Allowance for Funds Used During Construction rate.

Filed Date: 2/3/25.

Accession Number: 20250203-5291.

Comment Date: 5 p.m. ET 2/24/25.

Take notice that the Commission received the following electric corporate filings:

Docket Numbers: EC25-46-000.

Applicants: Potomac Energy Center, LLC, Potomac Energy LLC.

Description: Joint Application for Authorization Under Section 203 of the Federal Power Act of Potomac Energy Center, LLC, et al.

Filed Date: 2/3/25.

Accession Number: 20250203-5298.

Comment Date: 5 p.m. ET 2/24/25.

Docket Numbers: EC25-47-000.

Applicants: AEP Indiana Michigan Transmission Company, Inc., AEP Ohio Transmission Company, Inc.

Description: Joint Application for Authorization Under Section 203 of the Federal Power Act of AEP Indiana Michigan Transmission Company, Inc., et al.

Filed Date: 2/3/25.

Accession Number: 20250203-5300.

Comment Date: 5 p.m. ET 2/24/25.

Take notice that the Commission received the following exempt wholesale generator filings:

Docket Numbers: EG25-102-000.

Applicants: Regis Carrizo Springs LLC.

Description: Regis Carrizo Springs LLC submits Notice of Self-Certification of Exempt Wholesale Generator Status.

Filed Date: 2/4/25.

Accession Number: 20250204-5099.

Comment Date: 5 p.m. ET 2/25/25.

Docket Numbers: EG25-103-000.

Applicants: Regis Escondido LLC.

Description: Regis Escondido LLC submits Notice of Self-Certification of Exempt Wholesale Generator Status.

Filed Date: 2/4/25.

Accession Number: 20250204-5100.

Comment Date: 5 p.m. ET 2/25/25.

Docket Numbers: EG25-104-000.

Applicants: Regis Gears-Harris LLC.

Description: Regis Gears-Harris LLC submits Notice of Self-Certification of Exempt Wholesale Generator Status.

Filed Date: 2/4/25.

Accession Number: 20250204-5102.

Comment Date: 5 p.m. ET 2/25/25.

Docket Numbers: EG25-105-000.

Applicants: Regis Goodwin LLC.

Description: Regis Goodwin LLC submits Notice of Self-Certification of Exempt Wholesale Generator Status.

Filed Date: 2/4/25.

Accession Number: 20250204-5103.

Comment Date: 5 p.m. ET 2/25/25.

Docket Numbers: EG25-106-000.

Applicants: Regis Gregory LLC.

Description: Regis Gregory LLC submits Notice of Self-Certification of Exempt Wholesale Generator Status.

Filed Date: 2/4/25.

Accession Number: 20250204-5104.

Comment Date: 5 p.m. ET 2/25/25.

Docket Numbers: EG25-107-000.

Applicants: Regis Hearn LLC.

Description: Regis Hearn LLC submits Notice of Self-Certification of Exempt Wholesale Generator Status.

Filed Date: 2/4/25.

Accession Number: 20250204-5105.

Comment Date: 5 p.m. ET 2/25/25.

Docket Numbers: EG25-108-000.

Applicants: Regis Hidden Valley LLC.

Description: Regis Hidden Valley LLC submits Notice of Self-Certification of Exempt Wholesale Generator Status.

Filed Date: 2/4/25.

Accession Number: 20250204-5106.

Comment Date: 5 p.m. ET 2/25/25.

Docket Numbers: EG25-109-000.

Applicants: Regis Laureles LLC.

Description: Regis Laureles LLC submits Notice of Self-Certification of Exempt Wholesale Generator Status.

Filed Date: 2/4/25.

Accession Number: 20250204-5107.

Comment Date: 5 p.m. ET 2/25/25.

Docket Numbers: EG25-110-000.

Applicants: Regis Leakey LLC.

Description: Regis Leakey LLC submits Notice of Self-Certification of Exempt Wholesale Generator Status.

Filed Date: 2/4/25.

Accession Number: 20250204-5108.

Comment Date: 5 p.m. ET 2/25/25.

Docket Numbers: EG25-111-000.

Applicants: Regis Lyssy LLC.

Description: Regis Lyssy LLC submits Notice of Self-Certification of Exempt Wholesale Generator Status.

Filed Date: 2/4/25.

Accession Number: 20250204-5111.

Comment Date: 5 p.m. ET 2/25/25.

Docket Numbers: EG25-112-000.

Applicants: Regis Mason LLC.

Description: Regis Mason LLC submits Notice of Self-Certification of Exempt Wholesale Generator Status.

Filed Date: 2/4/25.

Accession Number: 20250204-5112.

Comment Date: 5 p.m. ET 2/25/25.

Docket Numbers: EG25-113-000.

Applicants: Regis Medina Lake LLC.

Description: Regis Medina Lake LLC submits Notice of Self-Certification of Exempt Wholesale Generator Status.

Filed Date: 2/4/25.

Accession Number: 20250204-5113.

Comment Date: 5 p.m. ET 2/25/25.

Docket Numbers: EG25-114-000.

Applicants: Regis Milton LLC.

Description: Regis Milton LLC submits Notice of Self-Certification of Exempt Wholesale Generator Status.

Filed Date: 2/4/25.

Accession Number: 20250204-5114.

Comment Date: 5 p.m. ET 2/25/25.

Docket Numbers: EG25-115-000.

Applicants: Regis Monte Cristo LLC.

Description: Regis Monte Cristo LLC submits Notice of Self-Certification of Exempt Wholesale Generator Status.

Filed Date: 2/4/25.

Accession Number: 20250204-5115.

Comment Date: 5 p.m. ET 2/25/25.

Docket Numbers: EG25-116-000.

Applicants: Regis Muenster LLC.

Description: Regis Muenster LLC submits Notice of Self-Certification of Exempt Wholesale Generator Status.

Filed Date: 2/4/25.

Accession Number: 20250204-5116.

Comment Date: 5 p.m. ET 2/25/25.

Docket Numbers: EG25-117-000.

Applicants: Regis Palacios LLC.

Description: Regis Palacios LLC submits Notice of Self-Certification of Exempt Wholesale Generator Status.

Filed Date: 2/4/25.

Accession Number: 20250204-5120.

Comment Date: 5 p.m. ET 2/25/25.

Docket Numbers: EG25-118-000.

Applicants: Regis Utopia LLC.

Description: Regis Utopia LLC submits Notice of Self-Certification of Exempt Wholesale Generator Status.

Filed Date: 2/4/25.

Accession Number: 20250204-5121.

Comment Date: 5 p.m. ET 2/25/25.

Take notice that the Commission received the following electric rate filings:

Docket Numbers: ER10-1276-019; ER10-1287-018; ER10-1292-017; ER10-1303-017; ER10-1319-019; ER10-1353-019; ER18-1183-010; ER18-1184-010; ER23-1411-004; ER24-3028-001; ER24-3029-001.

Applicants: Livingston Generating Station, LLC, Kalamazoo Generating Station, LLC, Newport Solar LLC, Delta Solar Power II, LLC, Delta Solar Power I, LLC, Dearborn Industrial Generation, L.L.C., CMS Generation Michigan Power, LLC, Genesee Power Station Limited Partnership, CMS Energy Resource Management Company, Grayling Generation Station Limited Partnership, Consumers Energy Company.

Description: Notice of Non-Material Change in Status of Consumers Energy Company, et al.

Filed Date: 1/31/25.

Accession Number: 20250131-5554.

Comment Date: 5 p.m. ET 2/21/25.

Docket Numbers: ER10-1851-019; ER10-1852-099; ER13-1992-033; ER18-882-021; ER18-1534-015; ER19-1393-019; ER19-1394-019; ER19-2269-010; ER20-1986-010; ER21-1682-007; ER21-2293-009; ER21-2296-009; ER22-2706-006; ER13-752-022; ER13-1991-033; ER19-2437-015; ER21-1879-007; ER21-2118-009; ER22-381-013; ER23-1541-003; ER23-1543-003; ER24-2662-001; ER23-1542-003; ER24-26-003; ER24-1289-001; ER10-1849-033.

Applicants: Elk City Wind, LLC, Decatur Solar Energy Center, LLC, East Point Energy Center, LLC, Desert Peak Energy Storage I, LLC, Duane Arnold Solar II, LLC, Desert Peak Energy Storage II, LLC, Desert Peak Energy Center, LLC, Dunns Bridge Solar Center, LLC, Dodge Flat Solar, LLC, Farmington Solar, LLC, Emmons-Logan Wind, LLC, Desert Sunlight 250, LLC, Energy Storage Holdings, LLC, Eight Point Wind, LLC, Ensign Wind Energy, LLC, Fish Springs Ranch Solar, LLC, Elora Solar, LLC, Day County Wind I, LLC, Dougherty County Solar, LLC, Endeavor Wind II, LLC, Endeavor Wind I, LLC, East Hampton Energy Storage Center, LLC, Elk City Renewables II, LLC, Desert Sunlight 300, LLC, Florida Power & Light Company, ESI Vansycle Partners, L.P.

Description: Supplement to October 31, 2024, Notice of Change in Status of Adelanto Solar II, LLC, et al. Part 3 of 6.

Filed Date: 1/31/25.

Accession Number: 20250131-5558.

Comment Date: 5 p.m. ET 2/21/25.

Docket Numbers: ER10-1962-028; ER10-1966-023; ER10-1899-023; ER10-1907-031; ER10-1918-032; ER10-1930-019; ER10-1931-020; ER10-1932-022; ER10-1935-023; ER10-1950-032; ER11-2642-027; ER11-3635-021; ER12-895-032; ER13-2112-023; ER14-21-017; ER14-2138-019; ER15-2601-015; ER16-1872-022; ER16-2275-022; ER16-2276-022; ER18-1535-014; ER18-1771-022; ER18-2003-018; ER18-2246-021; ER19-1392-012; ER20-2019-011; ER20-2064-012; ER20-2690-013; ER21-1953-011; ER21-2117-010; ER21-2149-010; ER22-2536-006; ER11-2160-028; ER12-1228-034; ER12-2225-022; ER12-2226-022; ER13-2147-009; ER14-1630-019; ER14-2447-003; ER14-2707-029; ER15-1375-022; ER15-2101-017; ER15-2477-021; ER16-90-021; ER16-1354-017; ER17-2340-018; ER18-2066-013; ER18-2182-019; ER19-2389-013; ER19-2398-017; ER20-1907-011; ER20-2695-013; ER21-254-009; ER21-2225-010; ER21-2699-011; ER22-1982-009; ER23-2629-004; ER24-827-002; ER24-2512-001; ER24-2514-001; ER24-1816-002; ER24-2513-001; ER24-2794-001; ER10-1857-022; ER10-1890-028.

Applicants: FPL Energy Green Power Wind, LLC, FPL Energy Cape, LLC, Minco II Energy Storage, LLC, FRP Columbia County Solar, LLC, High River Energy Center, LLC, FRP Gadsden County Solar, LLC, FRP Gilchrist County Solar, LLC, Grace Orchard Energy Center, LLC, High Banks Wind, LLC, Great Prairie Wind, LLC, Minco Wind Energy III, LLC, Irish Creek Wind, LLC, Harmony Florida Solar, LLC, Mohave County Wind Farm LLC, Minco Wind I, LLC, Hancock County Wind, LLC, Grazing Yak Solar, LLC, Minco IV & V Interconnection, LLC, Minco Wind IV, LLC, Golden Hills North Wind, LLC, Live Oak Solar, LLC, Golden Hills Interconnection, LLC, Golden Hills Wind, LLC, Golden West Power Partners, LLC, McCoy Solar, LLC, Mammoth Plains Wind Project, LLC, Granite Reliable Power, LLC, Mantua Creek Solar, LLC, Frontier Utilities Northeast LLC, Limon Wind, LLC, Limon Wind II, LLC, High Majestic Wind II, LLC, FPL Energy Montezuma Wind, LLC, Kossuth County Wind, LLC, Minco Wind Energy II, LLC, Little Blue Wind Project, LLC, Heartland Divide Wind II, LLC, Jordan Creek Wind Farm LLC, High Majestic Wind I, LLC, Gray County Wind, LLC, High Lonesome Mesa Wind, LLC, Heartland Divide Wind Project, LLC, Lorenzo Wind, LLC, Langdon Renewables, LLC, Montauk Energy Storage Center, LLC, Kingman Wind Energy II, LLC, Kingman Wind Energy I, LLC, Marshall Solar, LLC, Green Mountain Storage, LLC, Limon Wind III, LLC, Mountain View Solar, LLC, Genesis Solar, LLC, Minco Wind Interconnection Services, LLC, Hatch Solar Energy Center I, LLC,FPL Energy South Dakota Wind, LLC, Garden Wind, LLC, FPL Energy Wyman IV, LLC, FPL Energy Wyman, LLC, FPL Energy Vansycle, L.L.C., FPL Energy Stateline II, Inc., FPL Energy North Dakota Wind II, LLC, FPL Energy North Dakota Wind, LLC, FPL Energy Illinois Wind, LLC, Logan Wind Energy LLC, High Winds, LLC.

Description: Supplement to October 31, 2024, Notice of Change in Status of Adelanto Solar II, LLC, et al. Part 4 of 6.

Filed Date: 1/31/25.

Accession Number: 20250131-5560.

Comment Date: 5 p.m. ET 2/21/25.

Docket Numbers: ER11-3377-012; ER11-3376-011; ER11-3378-012.

Applicants: South Hurlburt Wind, LLC, North Hurlburt Wind, LLC, Horseshoe Bend Wind, LLC.

Description: Notice of Non-Material Change in Status of Horseshoe Bend Wind, LLC, et al. under ER11-3377, et al.

Filed Date: 1/31/25.

Accession Number: 20250131-5549.

Comment Date: 5 p.m. ET 2/21/25.

Docket Numbers: ER15-1418-022; ER15-1883-022; ER16-91-021; ER16-2190-023; ER18-2118-019; ER19-1073-012; ER20-820-014; ER20-2179-011; ER21-2674-007; ER22-415-009; ER23-883-002; ER23-2404-005; ER10-1841-032; ER10-2005-032; ER15-1925-027; ER16-632-021; ER16-2191-023; ER16-2453-024; ER19-2373-015; ER19-2901-013; ER20-819-015; ER21-1990-008; ER21-2294-011; ER21-2304-010; ER23-71-003; ER23-568-006; ER24-817-004.

Applicants: Babbitt Ranch Energy Center, LLC, Big Cypress Solar, LLC, Buena Vista Energy Center, LLC, Arlington Solar, LLC, Arlington Energy Center II, LLC, Blackwell Wind Energy, LLC, Blythe Solar III, LLC, Bronco Plains Wind, LLC, Ashtabula Wind I, LLC, Brady Interconnection, LLC, Brady Wind II, LLC, Blythe Solar II, LLC, Breckinridge Wind Project, LLC, Ashtabula Wind II, LLC, Butler Ridge Wind Energy Center, LLC, Bronco Plains Wind II, LLC, Bell Ridge Solar, LLC, Arlington Energy Center III, LLC, Borderlands Wind, LLC, Baldwin Wind Energy, LLC, Blythe Solar IV, LLC, Alta Wind VIII, LLC, Armadillo Flats Wind Project, LLC, Brady Wind, LLC, Blythe Solar 110, LLC, Adelanto Solar, LLC, Adelanto Solar II, LLC.

Description: Supplement to October 31, 2024, Notice of Change in Status of Adelanto Solar II, LLC, et al. Part 1 of 6.

Filed Date: 1/30/25.

Accession Number: 20250130-5295.

Comment Date: 5 p.m. ET 2/20/25.

Docket Numbers: ER17-1821-007.

Applicants: Panda Stonewall LLC.

Description: Compliance filing: Potomac Energy Center, LLC submits tariff filing per 35: Informational Filing Pursuant to Schedule 2 of the PJM OATT to be effective N/A.

Filed Date: 2/4/25.

Accession Number: 20250204-5151.

Comment Date: 5 p.m. ET 2/25/25.

Docket Numbers: ER18-807-014; ER18-1981-018; ER10-1951-073; ER10-1970-031; ER10-1972-031; ER10-2641-048; ER11-2192-023; ER11-4462-097; ER12-2444-027; ER13-2461-025; ER15-58-027; ER16-1440-023; ER16-1913-015; ER16-2297-023; ER16-2506-024; ER17-1774-013; ER10-1973-021; ER10-1974-032; ER11-2365-011; ER11-4677-029; ER12-676-023; ER14-2710-029; ER16-2241-022; ER16-2443-018; ER17-196-011; ER17-838-071; ER18-772-013; ER18-2224-022; ER19-11-013; ER19-1128-012; ER19-2266-010; ER20-1219-010; ER20-792-012; ER20-1220-013; ER20-1417-011; ER20-1879-014; ER20-1985-010; ER20-1988-011; ER20-1991-012; ER20-2012-010; ER20-2648-011; ER21-183-008; ER21-1532-007; ER21-1880-007; ER21-2100-010; ER21-2641-007; ER22-96-006; ER23-147-005; ER23-148-005; ER23-489-006; ER23-1208-003; ER23-1862-003; ER24-34-004; ER24-2792-001; ER24-2793-001.

Applicants: Ponderosa Wind II, LLC, Oliver Wind IV, LLC, Proxima Solar, LLC, Roundhouse Renewable Energy II, LLC, North Central Valley Energy Storage, LLC, Neptune Energy Center, LLC, Resurgence Solar II, LLC, Resurgence Solar I, LLC, Route 66 Solar Energy Center, LLC, Quinebaug Solar, LLC, Point Beach Solar, LLC, Niyol Wind, LLC, Quitman II Solar, LLC, Nutmeg Solar, LLC, Northern Divide Wind, LLC, Orbit Bloom Energy, LLC, Ponderosa Wind, LLC, Northern Colorado Wind Energy Center II, LLC, Northern Colorado Wind Energy Center, LLC, Oliver Wind I, LLC, Roundhouse Renewable Energy, LLC, Oliver Wind II, LLC, Oklahoma Wind, LLC, Peetz Table Wind, LLC, Quitman Solar, LLC, Rush Springs Energy Storage, LLC, Peetz Logan Interconnect, LLC, Pegasus Wind, LLC, New Mexico Wind, LLC, NextEra Energy Marketing, LLC, Pima Energy Storage System, LLC, NextEra Blythe Solar Energy Center, LLC, Ninnescah Wind Energy, LLC, Palo Duro Wind Energy, LLC, Perrin Ranch Wind, LLC, NextEra Energy Montezuma II Wind, LLC, Paradise Solar Urban Renewal, L.L.C., Northeast Energy Associates, A Limited Partnership, NextEra Energy Seabrook, LLC, NextEra Energy Bluff Point, LLC, Oliver Wind III, LLC, Osborn Wind Energy, LLC, River Bend Solar, LLC, Roswell Solar, LLC, Palo Duro Wind Interconnection Services, LLC, Pheasant Run Wind, LLC, North Sky River Energy, LLC, NEPM II, LLC, Red Mesa Wind, LLC, Oleander Power Project, Limited Partnership, NextEra Energy Point Beach, LLC, NextEra Energy Duane Arnold, LLC, NextEra Energy Services Massachusetts, LLC, Pratt Wind, LLC, Pinal Central Energy Center, LLC.

Description: Supplement to October 31, 2024, Notice of Change in Status of Adelanto Solar II, LLC, et al. Part 5 of 6.

Filed Date: 1/31/25.

Accession Number: 20250131-5561.

Comment Date: 5 p.m. ET 2/21/25.

Docket Numbers: ER20-391-012; ER21-2557-007; ER22-2662-007; ER22-2663-007; ER22-2664-007; ER23-1275-005; ER23-1276-005; ER23-1277-005; ER24-1276-002; ER24-2249-003; ER24-2250-002; ER24-2251-002; ER24-2854-001; ER24-2855-001; ER24-2856-001.

Applicants: Aron Energy Prepay 46 LLC, Aron Energy Prepay 45 LLC, Aron Energy Prepay 44 LLC, Aron Energy Prepay 43 LLC, Aron Energy Prepay 42 LLC, Aron Energy Prepay 41 LLC, Aron Energy Prepay 35 LLC, Aron Energy Prepay 23 LLC, Aron Energy Prepay 22 LLC, Aron Energy Prepay 21 LLC, Aron Energy Prepay 16 LLC, Aron Energy Prepay 15 LLC, Aron Energy Prepay 14 LLC, Aron Energy Prepay 5 LLC, J. Aron & Company LLC.

Description: Notice of Non-Material Change in Status of J. Aron & Company LLC, et al.

Filed Date: 1/31/25.

Accession Number: 20250131-5550.

Comment Date: 5 p.m. ET 2/21/25.

Docket Numbers: ER20-1006-002.

Applicants: DATC Path 15, LLC.

Description: Amendment to 2020 Settlement and Request for Shortened 2-Day Comment Period to be effective N/A.

Filed Date: 2/3/25.

Accession Number: 20250203-5185.

Comment Date: 5 p.m. ET 2/13/25.

Docket Numbers: ER21-1519-008; ER10-1852-105; ER10-1951-079; ER11-4462-102; ER16-1277-018; ER16-1293-018; ER16-1354-018; ER17-838-076; ER19-2266-011; ER19-2269-011; ER21-1532-008; ER24-1287-003; ER24-1288-003; ER24-1289-002.

Applicants: Decatur Solar Energy Center, LLC, Washington County Solar, LLC, Wadley Solar, LLC, Quitman II Solar, LLC, Dougherty County Solar, LLC, Quitman Solar, LLC, NextEra Energy Marketing, LLC, Live Oak Solar, LLC, White Oak Solar, LLC, White Pine Solar, LLC, NEPM II, LLC, NextEra Energy Services Massachusetts, LLC, Florida Power & Light Company, Cool Springs Solar, LLC.

Description: Notice of Change in Status of Cool Springs Solar, LLC, et al.

Filed Date: 1/31/25.

Accession Number: 20250131-5557.

Comment Date: 5 p.m. ET 2/21/25.

Docket Numbers: ER22-2030-004; ER22-2031-005.

Applicants: Sonoran West Solar Holdings 2, LLC, Sonoran West Solar Holdings, LLC.

Description: Notice of Non-Material Change in Status of Sonoran West Solar Holdings, LLC, et al.

Filed Date: 1/31/25.

Accession Number: 20250131-5553.

Comment Date: 5 p.m. ET 2/21/25.

Docket Numbers: ER22-2784-007; ER14-41-013; ER14-42-013; ER16-498-012; ER16-499-012; ER16-500-012; ER16-2277-006; ER16-2289-007; ER18-1174-007; ER20-2448-008; ER21-133-008; ER21-736-009; ER21-1962-009; ER21-2634-007.

Applicants: Solar Star Lost Hills, LLC, Mulberry BESS LLC, RE Slate 1 LLC, HDSI, LLC, American Kings Solar, LLC, Imperial Valley Solar 2, LLC, Golden Fields Solar I, LLC, Solar Star California XLI, LLC, RE Mustang 4 LLC, RE Mustang 3 LLC, RE Mustang LLC,RE Rosamond Two LLC, RE Rosamond One LLC, MN8 Energy Marketing LLC.

Description: Notice of Non-Material Change in Status of MN8 Energy Marketing LLC, et al.

Filed Date: 1/31/25.

Accession Number: 20250131-5551.

Comment Date: 5 p.m. ET 2/21/25.

Docket Numbers: ER24-1576-004; ER10-1882-016; ER10-1894-015; ER10-2563-011; ER12-164-027; ER18-2203-007; ER19-1402-006; ER20-2288-007; ER22-2046-006.

Applicants: Maple Flats Solar Energy Center LLC, Wisconsin River Power Company, Wisconsin Public Service Corporation, Wisconsin Electric Power Company, Bishop Hill Energy III LLC, Upper Michigan Energy Resources Corporation, Coyote Ridge Wind, LLC, Tatanka Ridge Wind, LLC, Sapphire Sky Wind Energy LLC.

Description: Notice of Non-Material Change in Status of Maple Flats Solar Energy Center LLC, et al.

Filed Date: 1/30/25.

Accession Number: 20250130-5294.

Comment Date: 5 p.m. ET 2/20/25.

Docket Numbers: ER24-2148-001.

Applicants: McFarland Storage C, LLC.

Description: Notice of Change in Status of McFarland Storage C, LLC.

Filed Date: 2/3/25.

Accession Number: 20250203-5295.

Comment Date: 5 p.m. ET 2/24/25.

Docket Numbers: ER24-2327-002.

Applicants: Calhoun County Solar Project, LLC.

Description: Notice of Change in Status of Calhoun County Solar Project, LLC.

Filed Date: 2/3/25.

Accession Number: 20250203-5296.

Comment Date: 5 p.m. ET 2/24/25.

Docket Numbers: ER24-2663-001; ER10-1852-104; ER10-1951-078; ER11-4462-101; ER17-838-075; ER20-1980-010; ER20-2049-009; ER24-2664-001.

Applicants: Cedar Springs Wind IV, LLC, Cedar Springs Wind III, LLC, Cedar Springs Wind, LLC, NextEra Energy Marketing, LLC, NEPM II, LLC, NextEra Energy Services Massachusetts, LLC, Florida Power & Light Company, Anticline Wind, LLC.

Description: Notice of Change in Status of Anticline Wind, LLC, et al.

Filed Date: 1/31/25.

Accession Number: 20250131-5555.

Comment Date: 5 p.m. ET 2/21/25.

Docket Numbers: ER24-2816-001.

Applicants: Harquahala Sun 2, LLC.

Description: Notice of Change in Status of Harquahala Sun 2, LLC.

Filed Date: 2/3/25.

Accession Number: 20250203-5294.

Comment Date: 5 p.m. ET 2/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, local communities, Tribal members and others, access publicly available information and navigate Commission processes. For public inquiries and assistance with making filings such as interventions, comments, or requests for rehearing, the public is encouraged to contact OPP at (202) 502-6595 or OPP@ferc.gov.

Dated: February 4, 2025.
Carlos D. Clay,
Deputy Secretary.

[FR Doc. 2025-02439 Filed 2-10-25; 8:45 am]

BILLING CODE 6717-01-P